DEPARTMENT OF TRANSPORTATION

Federal Aviation Administration

Notice of Intent To Rule on Request To Release Airport Property at the Scappoose Industrial Airpark, Scappoose, OR

AGENCY: Federal Aviation Administration (FAA), DOT.

ACTION: Notice of Request to Release Airport Property.

SUMMARY: The FAA proposes to rule and invite public comment on the release of land at Scappoose Industrial Airpark under the provisions of Section 125 of the Wendell H. Ford Aviation Investment Reform Act for the 21st Century (AIR 21), now 49 U.S.C. 47107(h)(2).

DATES: Comments must be received on or before July 10, 2008.

ADDRESSES: Comments on this application may be mailed or delivered to the FAA at the following address: Ms. Carol Key, Manager, Federal Aviation Administration, Northwest Mountain Region, Airports Division, Seattle Airports District Office, 1601 Lind Avenue, SW., Suite 250, Renton, Washington 98057-3356.

In addition, one copy of any comments submitted to the FAA must be mailed or delivered to Ms. Kim Shade, Operations Manager of the Port of St. Helens, at the following address: Ms. Kim Shade, Port of St. Helens, 100 E. Street, Columbia City, Oregon 97018.

FOR FURTHER INFORMATION CONTACT: Mr. Dave Roberts, Civil Engineer, Federal Aviation Administration, Northwest Mountain Region, Seattle Airports District Office, 1601 Lind Avenue, SW., Suite 250, Renton, Washington 98057-3356.

The request to release property may be reviewed, by appointment, in person at this same location.

SUPPLEMENTARY INFORMATION: The FAA invites public comment on the request to release property at the Scappoose Industrial Airpark under the provisions of the AIR 21 (49 U.S.C. 47107(h)(2)).

On May 27, 2008, the FAA determined that the request to release property at Scappoose Industrial Airpark submitted by the airport meets the procedural requirements of the Federal Aviation Administration. The FAA may approve the request, in whole or in part, no later than July 10, 2008.

The following is a brief overview of the request:

The Port of St. Helens is proposing the release, through fee acquisition and permanent easements for slopes, of approximately 21,967 square feet of Scappoose Industrial Airpark property to Columbia County. The land would be used for road curvature improvements at the Westlane/Honeyman Road intersection to Skyway Drive to increase traffic safety. The revenue made from this sale will be used toward Airport capital improvement.

Any person may inspect, by appointment, the request in person at the FAA office listed above under FOR FURTHER INFORMATION CONTACT.

In addition, any person may, upon appointment and request, inspect the application, notice and other documents germane to the application in person at Scappoose Industrial Airpark.

Issued in Renton, Washington on May 28, 2008.
Carol Key,
Manager, Seattle Airports District Office.

[FR Doc. E8-12776 Filed 6-9-08; 8:45 am]

BILLING CODE 4910-13-M